DEPARTMENT OF AGRICULTURE

Forest Service

Willamette Province Advisory Committee

AGENCY: Forest Service, USDA.

ACTION: Notice of meeting.

SUMMARY: The Willamette Province Advisory Committee (PAC) will meet in Salem, Oregon. The purpose of the meeting is to discuss issues pertinent to the implementation of the Northwest Forest Plan and to provide advice to federal land managers in the Province. The topics to be covered at the meeting include updates on off-highway vehicle planning, the Northern Spotted Owl Recovery Plan, stewardship projects and planning. BLM Resource Management Plan revisions, and plans for Province monitoring in 2006.

DATES: The meeting will be held May 4, 2006 beginning at 9 a.m. pdst.

ADDRESSES: The meeting will be held at the Red Lion Hotel, 3301 Market Street, Salem, Oregon. Send written comments to Neal Forrester, Willamette Province Advisory Committee, c/o Willamette National Forest, 211 E. 7th Avenue, Eugene, Oregon 97401, (541) 225-6436, or electronically to nforrester@fs.fed.us.

FOR FURTHER INFORMATION CONTACT: Neal Forrester, Willamette National Forest, (541) 225-6436.

SUPPLEMENTARY INFORMATION: The meeting is open to the public. Committee discussion is limited to PAC members. However, persons who wish to bring matters to the attention of the Committee may file written statements with the PAC staff before or after the meeting. A public forum will be provided and individuals will have the opportunity to address the PAC. Oral comments will be limited to three mintues.

Dated: April 10, 2006.
Dallas J. Emch,
Forest Supervisor, Willamette National Forest.

[FR Doc. 06-3579 Filed 4-13-06; 8:45 am]

BILLING CODE 3410-11-M